DEPARTMENT OF HEALTH AND HUMAN SERVICES

Centers for Disease Control and Prevention

Advisory Committee for Injury Prevention and Control

In accordance with section 10(a)(2) of the Federal Advisory Committee Act (Pub. L. 92-463), the Centers for Disease Control and Prevention (CDC) announces the following subcommittee and committee meetings.

Name: Science and Program Review Subcommittee (SPRS), meetings of the Advisory Committee for Injury Prevention and Control, and its subcommittees, the Science and Program Review Subcommittee and the Subcommittee on Intimate Partner Violence and Sexual Assault.

Time and Date: 8 a.m.-10:15 a.m., November 5, 2003.

Place: The Westin Atlanta North at Perimeter, 7 Concourse Parkway, Atlanta, Georgia 30328.

Status: Open to the public, limited only by the space available.

Purpose: The SPRS provides advice on the needs, structure, progress and performance of programs of the National Center for Injury Prevention and Control (NCIPC), as well as second-level scientific and programmatic review for applications for research grants, cooperative agreements, and training grants related to injury control and violence prevention, and recommends approval of projects that merit further consideration for funding support. The SPRS also advises on priorities for research to be supported by contracts, grants, and cooperative agreements and provides concept review of program proposals and announcements.

Matters to be Discussed: The SPRS will discuss the new research agenda, upcoming program announcements and meeting dates.

Name: Subcommittee on Intimate Partner Violence and Sexual Assault (SIPVSA).

Time and Date: 8:30 a.m.-10:15 a.m., November 5, 2003.

Place: The Westin Atlanta North at Perimeter, 7 Concourse Parkway, Atlanta, Georgia 30328.

Status: Open to the public, limited only by the space available.

Purpose: To advise and make recommendations to the full advisory committee and the Director, NCIPC, regarding feasible goals for prevention and control of domestic and sexual violence. The SIPVSA will make recommendations regarding strategies, objectives, and priorities in programs, policies and research, and will also review the NCIPC research agenda priorities and implementation related to intimate partner violence and sexual assault.

Matters to be Discussed: The SIPVSA will hold a conference call meeting to discuss strategies for examining models for integration of intimate partner violence and sexual assault prevention into broader public health infrastructure and strategies.

Place: The Westin Atlanta North at Perimeter, 7 Concourse Parkway, Atlanta, Georgia 30328.

Status: Open to the public, limited only by the space available.

Name: Advisory Committee for Injury Prevention and Control.

Time and Dates:

1 p.m.-5:45 p.m., November 5, 2003.

8:30 a.m.-2:30 p.m., November 6, 2003.

Place: The Westin Atlanta North at Perimeter, 7 Concourse Parkway, Atlanta, Georgia 30328.

Status: Open to the public, limited only by the space available.

Purpose: The Committee advises and makes recommendations to the Secretary, Health and Human Services, the Director, CDC, and the Director, NCIPC, regarding feasible goals for the prevention and control of injury. The Committee makes recommendations regarding policies, strategies, objectives, and priorities, and reviews progress toward injury prevention and control.

Matters to be Discussed: Prior to the full committee meeting, there will be a brief meeting conducted by conference call of the Working Group on Injury Control and Infrastructure Enhancement, a group formed to report to the full committee identifying gaps and suggesting ways to enhance injury prevention efforts. The working group will focus on defining injury infrastructure and developing a simple mechanism to assess current efforts underway throughout the injury field to enhance that infrastructure. Starting at 1 p.m., the full committee will meet. Agenda items include an update on Center activities from the Director, NCIPC; discussion of results of DHHS’ review of the Federal Advisory Committee survey results of ACIPC; reports from the Subcommittees and Working Group; state infrastructure development; an introduction to CDC's Injury Research Agenda charge to the Committee, update of research implementation and evaluation, review of plans for updating the research agenda; and ways of ensuring the translation of research into practice; updating the acute care agenda; NCIPC injury prevention recommendations, CDC's Strategic Initiative; and implementation of the President's Management Agenda at CDC.

Agenda items are subject to change as priorities dictate.

FOR FURTHER INFORMATION CONTACT: Ms. Louise Galaska, Executive Secretary, ACIPC, NCIPC, CDC, 4770 Buford Highway, NE, M/S K02, Atlanta, Georgia 30341-3724, telephone (770) 488-4694.

The Director, Management Analysis and Services Office, has been delegated the authority to sign Federal Register notices pertaining to announcements of meetings and other committee management activities, for both CDC and the Agency for Toxic Substances and Disease Registry.

Dated: September 24, 2003.
Alvin Hall,
Director, Management Analysis and Services Office, Centers for Disease Control and Prevention.

[FR Doc. 03-24673 Filed 9-29-03; 8:45 am]

BILLING CODE 4163-18-P